NUCLEAR REGULATORY COMMISSION

10 CFR Part 50

RIN 3150-AH76

[NRC-2007-0003]

Industry Codes and Standards; Amended Requirements; Correction

AGENCY: Nuclear Regulatory Commission.

ACTION: Final rule; correction.

SUMMARY: The Nuclear Regulatory Commission (NRC) is correcting a final rule that appeared in the Federal Register on September 10, 2008 (73 FR 52729). The final rule amended NRC's regulations to incorporate by reference the 2004 Edition of Section III, Division 1, and Section XI, Division 1, of the American Society of mechanical Engineers (ASME) Boiler and Pressure Vessel Code (BPV Code), and the 2004 Edition of the ASME Code for Operation and maintenance of Nuclear Power plants (OM Code) to provide updated rules for constructing and inspecting components and testing pumps, valves, and dynamic restraints (snubbers) in light-water nuclear power plants. The final rule also incorporated by reference ASME Code Cases N-722 and N-729-1.

DATES: Effective October 2, 2008.

FOR FURTHER INFORMATION CONTACT: L. Mark Padovan, Office of Nuclear Reactor Regulation, U.S. Nuclear Regulatory Commission, Washington, DC 20555-0001, telephone 301-415-1423, e-mail Mark.Padovan@nrc.gov.

SUPPLEMENTARY INFORMATION: In FR doc. E8-20624 appearing on page 52729 in the Federal Register of Wednesday, September 10, 2008, the following corrections are made:

1. On page 52734, in the center column, third complete paragraph, fifth line from the bottom, remove the words “or impracticality must be shown under 10 CFR 50.55a(g)(6)(i).”

§ 50.55a [Corrected]

2. On page 52749, in the center column, in § 50.55a(g)(6)(ii)(D)(1), line 7, remove “[insert final date of rule]” and add in its place “September 10, 2008”.

3. On page 52749, in the center column, in § 50.55a(g)(6)(ii)(D)(4), “50.55a(g)(6)(ii)(D)(3)(i)” is corrected to read “§ 50.55a(g)(6)(ii)(D)(4)(i),” and “50.55a(g)(6)(ii)(D)(3)(iv)” is corrected to read “§ 50.55a(g)(6)(ii)(D)(4)(iv)”.

Dated at Rockville, Maryland, this 26th day of September 2008.
For the Nuclear Regulatory Commission.
Michael T. Lesar,
Chief, Rulemaking, Directives, and Editing Branch, Division of Administrative Services, Office of Administration.

[FR Doc. E8-23237 Filed 10-1-08; 8:45 am]

BILLING CODE 7590-01-P